DEPARTMENT OF AGRICULTURE

Federal Crop Insurance Corporation

7 CFR Part 457

RIN 0563-AB99

Common Crop Insurance Regulations, Cabbage Crop Insurance Provisions; Correction

AGENCY: Federal Crop Insurance Corporation, USDA.

ACTION: Final rule; correction.

SUMMARY: This document contains corrections to the final regulation which was published February 26, 2009. The regulation pertains to the insurance of cabbage.

DATES: Effective Date: June 2, 2009.

FOR FURTHER INFORMATION CONTACT: Erin Albright, Risk Management Specialist, Product Management, Product Administration and Standards Division, Risk Management Agency, United States Department of Agriculture, Beacon Facility, Stop 0812, Room 421, P.O. Box 419205, Kansas City, MO 64141-6205, telephone (816) 926- 7730.

SUPPLEMENTARY INFORMATION:

Background

The final regulation that is the subject of this correction converted the cabbage pilot crop insurance program to a permanent crop insurance regulation to be used in conjunction with the Common Crop Insurance Policy Basic Provisions for ease of use and consistency of terms. It was published February, 26, 2009 (74 FR 8705-8713).

Need for Correction

As published, the final regulation contained an error which may prove to be misleading and needs to be clarified. Section 12(c) of the Cabbage Crop Insurance Provisions mistakenly included a reference to section 14(a)(3) (Your Duties) of the Basic Provisions. This specific reference to section 14(a)(3) (Your Duties) of the Basic Provisions should have been referenced in section 12(e) of the Cabbage Crop Insurance Provisions. The correct reference in section 12(c) of the Cabbage Crop Insurance Provisions should be to the provisions contained in section 14 of the Basic Provisions.

List of Subjects in 7 CFR Part 457

Crop insurance, Cabbage, Reporting and recordkeeping requirements.

Correction of Publication

Accordingly, 7 CFR part 457 is corrected as follows:

PART 457—COMMON CROP INSURANCE REGULATIONS

1. The authority citation for 7 CFR part 457 continues to read as follows:

Authority: 7 U.S.C. 1506(l) and 1506(p).

§ 457.171 [Amended]

2. Amend § 457.171 as follows:

a. In section 12(c) by removing the phrase “(a)(3) (Your Duties)”; and

b. In section 12(e) by removing the phrase “section 14” and adding the phrase “section 14(a)(3)(Your Duties)” in its place.

Signed in Washington, DC, on May 21, 2009.
William J. Murphy,
Acting Manager, Federal Crop Insurance Corporation.

[FR Doc. E9-12708 Filed 6-1-09; 8:45 am]

BILLING CODE 3410-08-P